DEPARTMENT OF HOMELAND SECURITY

Federal Emergency Management Agency

[Docket ID FEMA-2016-0002; Internal Agency Docket No. FEMA-B-1641]

Changes in Flood Hazard Determinations

AGENCY: Federal Emergency Management Agency, DHS.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Title 44, Part 65 of the Code of Federal Regulations (44 CFR part 65). The LOMR will be used by insurance agents and others to calculate appropriate flood insurance premium rates for new buildings and the contents of those buildings. For rating purposes, the currently effective community number is shown in the table below and must be used for all new policies and renewals.

DATES: These flood hazard determinations will become effective on the dates listed in the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at www.msc.fema.gov for comparison.

Submit comments and/or appeals to the Chief Executive Officer of the community as listed in the table below.

FOR FURTHER INFORMATION CONTACT: Rick Sacbibit, Chief, Engineering Services Branch, Federal Insurance and Mitigation Administration, FEMA, 400 C Street SW., Washington, DC 20472, (202) 646-7659, or (email) patrick.sacbibit@fema.dhs.gov; or visit the FEMA Map Information eXchange (FMIX) online at www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at www.msc.fema.gov for comparison.

(Catalog of Federal Domestic Assistance No. 97.022, “Flood Insurance.”)

Dated: August 3, 2016.
Roy E. Wright,
Deputy Associate Administrator for Insurance and Mitigation, Department of Homeland Security, Federal Emergency Management Agency.

State and county | Location and case No. | Chief executive officer of community | Community map repository | Online location of letter of map revision | Effective date of modification | Community No.
Illinois:
Cook | Village of Elmwood Park (15-05-7561P) | The Honorable Angelo Saviano, Village President, Elmwood Park, Elmwood Park Village Hall, 11 Conti Parkway, Elmwood Park, IL 60707 | Village Hall, 11 Conti Parkway, Elmwood Park, IL 60707 | http://www.msc.fema.gov/lomc | Sept. 28, 2016 | 170089
Cook | Village of River Grove (15-05-7561P) | The Honorable Marilynn J. May, Village President, Village of River Grove, 2621 North Thatcher Avenue, River Grove, IL 60171 | Village Hall, Administrative Offices, 2621 North Thatcher Avenue, River Grove, IL 60171 | http://www.msc.fema.gov/lomc | Sept. 28, 2016 | 170152
Whiteside | City of Morrison (16-05-2654P) | The Honorable R. Everett Pannier, Mayor, City of Morrison, 200 West Main Street, Morrison, IL 61270 | City Hall, 200 West Main Street, Morrison, IL 61270 | http://www.msc.fema.gov/lomc | Oct. 19, 2016 | 170691
Whiteside | Unincorporated Areas of Whiteside County (16-05-2654P) | The Honorable James C. Duffy, Chairman, Whiteside County Board, 200 East Knox Street, Morrison, IL 61270 | County Courthouse, 200 East Knox Street, Morrison, IL 61270 | http://www.msc.fema.gov/lomc | Oct. 19, 2016 | 170687
Will | City of Joliet (16-05-2519P) | The Honorable Robert O'Dekirk, Mayor, City of Joliet, 150 West Jefferson Street, Joliet, IL 60432 | City Hall, 150 West Jefferson Street, Joliet, IL 60432 | http://www.msc.fema.gov/lomc | Sept. 16, 2016 | 170702
Will | City of Lockport (16-05-2927P) | The Honorable Steven Streit, Mayor, City of Lockport, 222 East 9th Street, Lockport, IL 60441 | Public Works and Engineering, 17112 South Prime Boulevard, Lockport, IL 60441 | http://www.msc.fema.gov/lomc | Oct. 3, 2016 | 170703
Kansas:
Johnson | City of Edgerton (16-07-1285X) | The Honorable Donald B. Roberts, Mayor, City of Edgerton, 404 East Nelson Street, P.O. Box 255, Edgerton, KS 66021 | City Hall, 404 East Nelson Street, Edgerton, KS 66021 | http://www.msc.fema.gov/lomc | Oct. 10, 2016 | 200162
Johnson | City of Gardner (16-07-1285X) | The Honorable Chris C. Morrow, Mayor, City of Gardner, 420 North Cherry Street, Gardner, KS 66030 | City Hall, 120 East Main Street, Gardner, KS 66030 | http://www.msc.fema.gov/lomc | Oct. 10, 2016 | 200164
Johnson | Unincorporated Areas of Johnson County (16-07-1285X) | The Honorable Ed Eilert, Chairman, Johnson County, 111 South Cherry Street, Suite 3300, Olathe, KS 66061 | County Courthouse Planning Office, 111 South Cherry Street, Suite 3500, Olathe, KS 66061 | http://www.msc.fema.gov/lomc | Oct. 10, 2016 | 200159
Missouri:
St. Charles | City of Cottleville (15-07-0674P) | The Honorable Jim Hennessey, Mayor, City of Cottleville, 5490 5th Street, Cottleville, MO 63304 | City Hall, 5490 5th Street, Cottleville, MO 63304 | http://www.msc.fema.gov/lomc | Sept. 21, 2016 | 290898
St. Charles | City of O'Fallon (15-07-0674P) | The Honorable Bill Hennessy, Mayor, City of O'Fallon, 100 North Main Street, O'Fallon, MO 63366 | City Hall, 100 North Main Street, O'Fallon, MO 63366 | http://www.msc.fema.gov/lomc | Sept. 21, 2016 | 290316
St. Charles | Unincorporated Areas of St. Charles County (15-07-0674P) | Mr. Steve Ehlmann, County Executive, St. Charles County, 100 North 3rd Street, Suite 318, St. Charles, MO 63301 | County Administration Building, 201 North 2nd Street, Suite 420, St. Charles, MO 63301 | http://www.msc.fema.gov/lomc | Sept. 21, 2016 | 290315
Ohio: Cuyahoga | City of Strongsville (16-05-2288P) | The Honorable Thomas, P. Perciak, Mayor, City of Strongsville, City Hall, 16099 Foltz Parkway, Strongsville, OH 44149 | City Hall, 16099 Foltz Parkway, Strongsville, OH 44149 | http://www.msc.fema.gov/lomc | Sept. 29, 2016 | 390132
Texas: Tarrant | City of Fort Worth (16-06-1158P) | The Honorable Betsy Price, Mayor, City of Fort Worth, 1000 Throckmorton Street, Fort Worth, TX 76102 | Department of Transportation and Public Works, 1000 Throckmorton Street, Fort Worth, TX 76102 | http://www.msc.fema.gov/lomc | Sept. 30, 2016 | 480596

[FR Doc. 2016-19665 Filed 8-17-16; 8:45 am]

BILLING CODE 9110-12-P